SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers shown below.

(OMB) Office of Management and Budget, Attn: Desk Officer for SSA, Fax: 202-395-6974, E-mail address: OIRA_Submission@omb.eop.gov.

(SSA) Social Security Administration, DCBFM, Attn: Reports Clearance Officer, 1332 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than August 10, 2009. Individuals can obtain copies of the collection instrument by calling the SSA Reports Clearance Officer at 410-965-3758 or by writing to the e-mail address we list above.

1. Psychiatric Review Technique—20 CFR 404.1520a, 416.920a—0960-0413. The SSA-2506-BK assists the Disability Determination Services (DDS) offices in evaluating mental impairments by helping to organize and present the mental findings in a clear, concise, and consistent manner; consider and evaluate all aspects of the mental impairment relevant to the individual's ability to perform work-related mental functions; and identify additional evidence needed to determine impairment severity.

The respondents are the State DDSs and Federal DDSs administering the Title II and Title XVI programs.

Type of Request: Extension of an OMB-approved information collection.

Number of Respondents: 54.

Frequency of Response: 27,553.

Average Burden per Response: 15 minutes.

Estimated Annual Burden: 371,966 hours.

2. Certificate of Election for Reduced Spouse's Benefits—20 CFR 404.421—0960-0398. Reduced benefits are not payable to an already entitled spouse, at least age 62 but under full retirement age, who no longer has a child in care unless the spouse elects to receive reduced benefits. If a spouse decides to elect reduced benefits, they must complete Form SSA-25. SSA uses the information collected on Form SSA-25 to pay a qualified spouse who elects to receive a reduced benefit. Respondents are entitled spouses seeking reduced benefits.

Type of Request: Revision of an OMB-approved information collection.

Number of Respondents: 30,000.

Frequency of Response: 1.

Average Burden per Response: 2 minutes.

Estimated Annual Burden: 1,000 hours.

II. SSA has submitted the information collections we list below to OMB for clearance. Your comments on the information collections would be most useful if OMB and SSA receive them within 30 days from the date of this publication. To be sure we consider your comments, we must receive them no later than July 9, 2009. You can obtain a copy of the OMB clearance packages by calling the SSA Reports Clearance Officer at 410-965-3758 or by writing to the above e-mail address.

1. Statement of Employer—20 CFR 404.801-404.803—0960-0030. SSA uses Form SSA-7011-F4 to substantiate allegations of wages paid to workers when those wages do not appear in SSA's records of earnings and the worker does not have proof of those earnings. SSA uses the information from this form to process claims for Social Security benefits and to resolve discrepancies in the individual's Social Security earnings record. We only send Form SSA-7011-F4 to employers if we deem it necessary. We make every effort to locate the earnings information within our records before we contact the employer. The respondents are employers who can verify wage allegations made by wage earners.

Note: This is a correction notice. SSA published this information collection as an extension on April 07, 2009 at 74 FR 15808. Since we are revising the Privacy Act Statement, this is now a revision of an OMB-approved information collection.

Type of Request: Revision of an OMB-approved information collection.

Number of Respondents: 925,000.

Frequency of Response: 1.

Average Burden per Response: 20 minutes.

Estimated Annual Burden: 308,333 hours.

2. Statement of Claimant or Other Person—20 CFR 404.702 & 416.570—0960-0045. SSA uses the SSA-795 to obtain information from claimants or other persons having knowledge of facts in connection with claims for Supplemental Security Income (SSI) or Social Security benefits when there is no standard form to collect the needed information. SSA uses the information to process claims for benefits or for ongoing issues related to the above programs. The respondents are applicants/recipients of SSI or Social Security benefits, or others who are in a position to provide information pertinent to the claim(s).

Type of Request: Revision of an OMB-approved information collection.

Number of Respondents: 305,500.

Frequency of Response: 1.

Average Burden per Response: 15 minutes.

Estimated Annual Burden: 76,375 hours.

3. Statement of Self-Employment Income—20 CFR 404.101, 404.110, 404.1096(a)-(d)—0960-0046. SSA collects the information on Form SSA-766 to expedite the payment of benefits to an individual who is self-employed and who is establishing insured status. The form elicits the information necessary to determine if the individual will have the minimum amount of self-employment income for quarters of coverage. Respondents are self-employed individuals who may be eligible for Social Security benefits.

Note: This is a correction notice. SSA published this information collection as an extension on April 7, 2009 at 74 FR 15808. Since we are revising the Privacy Act Statement, this is now a revision of an OMB-approved information collection.

Type of Request: Revision of an OMB-approved information collection.

Number of Respondents: 2,500.

Frequency of Response: 1.

Average Burden per Response: 5 minutes.

Estimated Annual Burden: 417 hours.

4. Certification by Religious Group—20 CFR 404.1075—0960-0093. SSA uses information from Form SSA-1458 to determine whether a religious group meets the qualifications contained in Section 1402(g) of the Internal Revenue Code, which exempts members of certain religious groups and sects from payment of Self-Employment Contribution Act taxes. The respondents are spokespersons for religious groups or sects.

Type of Request: Extension of an OMB-approved information collection.

Number of Respondents: 180.

Frequency of Response: 1.

Average Burden per Response: 15 minutes.

Estimated Annual Burden: 45 hours.

5. Instructions for Completion of Federal Assistance Application—0960-0184. SSA uses information from Form SSA-BK-96 to select grant proposals for funding based on their technical merits. This information assists the agency in evaluating the soundness of the design of the proposed activities, the possibilities of obtaining productive results, the adequacy of resources to conduct the activities and the relationship to other similar activities of the respondents. The respondents are State and local governments, State-designated protection and advocacy groups, colleges and universities and profit and nonprofit private organizations.

Note: This is a correction notice. SSA published this information collection as an extension on April 7, 2009 at 74 FR 15808. Since we are revising the Privacy Act Statement, this is now a revision of an OMB-approved information collection.

Type of Request: Revision of an OMB-approved information collection.

Number of Respondents: 400.

Frequency of Response: 2 hours.

Average Burden per Response: 14 hours.

Estimated Annual Burden: 11,200 hours.

6. Representative Payee Report—Special Veterans Benefits—20 CFR 408.665—0960-0621. Title VIII of the Social Security Act allows the payment of monthly benefits (referred to as Special Veterans Benefits) by the Commissioner of Social Security to qualified World War II veterans who reside outside the United States. An SSA-appointed representative payee may receive and manage the monthly payment for the beneficiary's use and benefit. SSA uses the Form SSA-2001-F6 to determine if the payee has used the benefits properly and continues to demonstrate strong concern for the beneficiary. Respondents are persons or organizations who act on behalf of beneficiaries receiving Special Veterans Benefits.

Type of Request: Revision of an OMB-approved information collection.

Number of Respondents: 100.

Frequency of Response: 1.

Average Burden per Response: 10 minutes.

Estimated Annual Burden: 17 hours.

7. Request for Deceased Individual's Social Security Record—20 CFR 402.130—0960-0665. SSA uses the Form SSA-711 to process requests from the public for a microprint of the SS-5, Application for Social Security Card, for a deceased individual. Respondents are members of the public who are requesting deceased individuals' Social Security records.

Note: This is a correction notice. SSA published this information collection as an extension on April 7, 2009 at 74 FR 15808. Since we are revising the Privacy Act Statement, this is now a revision of OMB-approved information.

Type of Request: Revision of an OMB-approved information collection.

Number of Respondents: 50,000.

Frequency of Response: 1.

Average Burden per Response: 7 minutes.

Estimated Annual Burden: 5,834 hours.

8. Request for Business Entity Taxpayer Information—0960-0731. SSA uses the SSA-1694 to collect information from law firms or other business entities that have partners or employees to facilitate direct payment of SSA-authorized fees for representing claimants before SSA. SSA will use this information to meet any requirement for issuance of a Form 1099-MISC. The respondent law firms or other business entities that represent claimants before SSA.

Type of Request: Revision of an OMB-approved information collection.

Number of Respondents: 2,000.

Frequency of Response: 1.

Average Burden per Response: 10 minutes.

Estimated Annual Burden: 333 hours.

Type of Request: Revision of an OMB-approved information collection.

9. Electronic Records Express—0960-0753. Electronic Records Express (ERE) is a Web-based SSA program that allows medical providers to electronically submit disability claimant data to SSA. Medical providers and other third parties with connections to disability applicants/recipients can use this system. This information collection request (ICR) includes the registration process for becoming a certified ERE user. We are expanding this ICR to include increased functionality by giving medical providers the ability to submit invoices electronically. The respondents are medical providers who evaluate or treat disability claimants/recipients and other third parties.

Type of Request: Revision of an OMB-approved information collection.

Number of Respondents: 17,689.

Frequency of Response: 1.

Average Burden per Response: 10 minutes.

Estimated Annual Burden: 2,948 hours.

III. Correction Notices

1. Function Report Adult—Third Party—20 CFR 404.1512 & 416.912—0960-0635. This is a correction notice: SSA inadvertently published duplicate notices for this collection at 74 FR 23764 on 5/20/09 and again at 74 FR 23916 on 5/21/09. The first publication was in error. Therefore, we request comments only for the second publication with a submission date no later than July 20, 2009.

2. Function Report Adult—20 CFR 404.1512 & 416.912—0960-0681. This is a correction notice: SSA inadvertently published duplicate notices for this collection at 74 FR 23764 on 5/20/09 and again at 74 FR 23916 on 5/21/09. The first publication was in error. Therefore, we request comments only for the second publication with a submission date no later than July 20, 2009.

Dated: June 2, 2009.
John Biles,
Reports Clearance Officer, Center for Reports Clearance, Social Security Administration.

[FR Doc. E9-13316 Filed 6-8-09; 8:45 am]

BILLING CODE 4191-02-P